DEPARTMENT OF COMMERCE

International Trade Administration

[A-580-816]

Certain Corrosion-Resistant Carbon Steel Flat Products From the Republic of Korea: Notice of Final Results of the Sixteenth Administrative Review

AGENCY: Import Administration, International Trade Administration, Department of Commerce.

SUMMARY: On September 14, 2010, the Department of Commerce (the Department) published the preliminary results of the antidumping duty administrative review for certain corrosion-resistant carbon steel flat products (CORE) from the Republic of Korea (Korea). See Certain Corrosion-Resistant Carbon Steel Flat Products From the Republic of Korea: Notice of Preliminary Results of the Sixteenth Antidumping Duty Administrative Review, 75 FR 55769 (September 14, 2010) (Preliminary Results). This review covers eight manufacturers and/or exporters (collectively, the respondents) of the subject merchandise: LG Chem., Ltd. (LG Chem); Haewon MSC Co. Ltd. (Haewon); Dongbu Steel Co., Ltd. (Dongbu); Hyundai HYSCO (HYSCO); Pohang Iron & Steel Co., Ltd. (POSCO) and Pohang Coated Steel Co., Ltd. (POCOS) (collectively, POSCO); Dongkuk Industries Co., Ltd. (Dongkuk); LG Hausys, Ltd. (Hausys); and Union Steel Manufacturing Co., Ltd. (Union).¹ The period of review (POR) is August 1, 2008, through July 31, 2009.

¹ As noted in the Preliminary Results, the Department selected HYSCO, POSCO, Dongbu and Union as mandatory respondents in this review. See Memorandum from Dennis McClure, International Trade Compliance Analyst, through James Terpstra, Program Manager, to Melissa Skinner, Director, Office 3, entitled “2008-2009 Antidumping Duty Administrative Review of Corrosion-Resistant Carbon Steel Flat Products from the Republic of Korea: Selection of Respondents for Individual Review,” dated December 7, 2009.

As a result of our analysis of the comments received, these final results differ from the Preliminary Results. For our final results, we find that Union and Dongbu made sales of subject merchandise at less than normal value (NV), and that POSCO and HYSCO have not. In addition, based on the final results for the respondents selected for individual review, we have determined a weighted-average margin for those companies that were not selected for individual review.

DATES: Effective Date: March 21, 2011.

FOR FURTHER INFORMATION CONTACT: Dennis McClure (Union), Jolanta Lawska (HYSCO), Christopher Hargett (Dongbu) and Victoria Cho (the POSCO Group, and non-selected companies), Office 3, AD/CVD Operations, Import Administration, International Trade Administration, U.S. Department of Commerce, 14th Street and Constitution Avenue, NW., Washington, DC 20230; telephone: (202) 482-5973, (202) 482-8362, (202) 482-4161, and (202) 482-5075, respectively.

SUPPLEMENTARY INFORMATION:

Background

On September 14, 2010, the Department published the Preliminary Results. In the Preliminary Results, the Department determined that Union and Dongbu made sales of subject merchandise at less than NV during the POR, and that HYSCO and POSCO did not. In addition, based on the preliminary results for the respondents selected for individual review, the Department calculated a weighted-average margin for those companies that were not selected for individual review.

We conducted sales verifications at the POSCO Group from October 18 through 22, 2010, at HYSCO from October 25 through 29, 2010, and at Union from November 1 through 5, 2010. We conducted cost verifications at HYSCO from October 4 through 8, 2010, at the POSCO Group from October 11 through 15, 2010, and at Union from November 8 through 12, 2010. On December 7, 15, and 21, 2010, respectively, the Department released sales verification reports for Union, HYSCO, and the POSCO Group. On November 29, December 6, and December 17, 2010, respectively, the Department released cost verification reports for the POSCO Group, HYSCO, and Union.

On December 13, 2010, the Department extended the time limits for the final results of this review until no later than March 14, 2011. See Corrosion-Resistant Carbon Steel Flat Products From the Republic of Korea: Notice of Extension of Time Limit for the Final Results of Antidumping Duty Administrative Review, 75 FR 77615 (December 13, 2010).

Comments From Interested Parties

We invited parties to comment on our Preliminary Results. On January 14, 2011, United States Steel Corporation (U.S. Steel) filed case briefs concerning all four mandatory respondents. On January 14, 2011, HYSCO, POSCO, Union, and Dongbu each filed case briefs. On January 14, 2011, Hausys submitted its case brief, stating that it supports the arguments submitted by Union and Dongbu in their case briefs because Hausys's dumping margin would be based on the respondents subject to individual examination. On January 21, 2011, U.S. Steel and Nucor Corporation (Nucor) (collectively, petitioners) each filed rebuttal briefs. On January 21, 2011, HYSCO, POSCO, Union, and Dongbu each filed rebuttal briefs.

Scope of the Order

This order covers cold-rolled (cold-reduced) carbon steel flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the Harmonized Tariff Schedule of the United States (HTSUS) under item numbers 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, 7217.90.5090. Included in this order are corrosion-resistant flat-rolled products of non-rectangular cross-section where such cross-section is achieved subsequent to the rolling process (i.e., products which have been “worked after rolling”)—for example, products which have been beveled or rounded at the edges. Excluded from this order are flat-rolled steel products either plated or coated with tin, lead, chromium, chromium oxides, both tin and lead (terne plate), or both chromium and chromium oxides (tin-free steel), whether or not painted, varnished or coated with plastics or other nonmetallic substances in addition to the metallic coating. Also excluded from this order are clad products in straight lengths of 0.1875 inch or more in composite thickness and of a width which exceeds 150 millimeters and measures at least twice the thickness. Also excluded from this order are certain clad stainless flat-rolled products, which are three-layered corrosion-resistant carbon steel flat-rolled products less than 4.75 millimeters in composite thickness that consist of a carbon steel flat-rolled product clad on both sides with stainless steel in a 20%-60%-20% ratio.

These HTSUS item numbers are provided for convenience and customs purposes. The written descriptions remain dispositive.

Analysis of Comments Received

All issues raised in the case and rebuttal briefs by parties to this administrative review are addressed in the accompanying Issues and Decision Memorandum, which is hereby adopted by this notice. A list of the issues which parties have raised, and to which we have responded in the Issues and Decision Memorandum, is attached to this notice as an Appendix. In addition, a complete version of the Issues and Decision Memorandum can be accessed directly on the Internet at http://ia.ita.doc.gov/frn. The paper copy and electronic version of the Issues and Decision Memorandum are identical in content.

Changes From the Preliminary Results

As a result of the Department's analysis of comments received, we have made certain changes to the calculations of company-specific weight-average margins.

For Union, we revised our treatment of laminated CORE products as noted at Comment 2 of our Issues and Decision Memorandum. See also “Calculation Memorandum for Union Steel,” from Dennis McClure to the File, dated March 14, 2011. We have also revised Union's reported cost of manufacturing figures to reflect a recalculation of Union's scrap offset, GNA-expense rate calculation, cost of goods sold denominator to reflect the FY scrap revenue, and financial expense ratio as noted at Comments 16, 17, 18, and 19. See also “Cost of Production and Constructed Value Calculation Adjustments for the Final Results—Union Steel Co. Ltd.,” from Kristin Case to Neal Halper, dated March 14, 2010.

For the POSCO Group, we revised our treatment of laminated CORE products, U.S. warranty expenses, home market indirect selling expenses, and U.S. indirect selling expenses incurred in the country of manufacture, as noted at Comments 2, 6, and 9 of our Issues and Decision Memorandum. See also “Calculation Memorandum for Pohang Iron & Steel Company, Ltd. (POSCO), and Pohang Coated Steel Co., Ltd. (POCOS) (collectively, the POSCO Group),” from Victoria Cho to the File, dated March 14, 2011. We have also revised the POSCO Group's reported cost of manufacturing figures to reflect a recalculation of POSCO's total cost of manufacturing, as noted at Comment 12. See also “Cost of Production and Constructed Value Calculation Adjustments for the Final Results—Pohang Iron & Steel Company, Ltd., and Pohang Coated Steel Co., Ltd.,” from Sheikh M. Hannan to Neal M. Halper, dated March 14, 2011.

For HYSCO, we calculated the temper rolling cost adjustment factors for both temper rolled and non-temper rolled products and applied them to HYSCO's reported cost file as noted at Comment 5 of our Issues and Decision Memorandum. See also “Cost of Production and Constructed Value Calculation Adjustments for the Final Results—Hyundai HYSCO,” from Ji Young Oh to Neal M. Halper, dated March 14, 2011 (HYSCO's Final Cost Calculation Memorandum). Moreover, we reversed our adjustment made in the Preliminary Results as facts available, regarding the use of weighted-average value of SOTHMAT, DIRLAB, and FOH from the cost file for CONNUMS with negative values and disregarded the cost file field COMADJ3 as noted at Comment 4 of our Issues and Decision Memorandum. See Preliminary Results, 75 FR at 55774; see also HYSCO's Final Cost Calculation Memorandum.

We have made no changes to Dongbu's margin calculations since the Preliminary Results. See “Final Results in the 16th Administrative Review on Corrosion-Resistant Carbon Steel Flat Products from Korea: Calculation Memorandum for Dongbu Steel,” from Christopher Hargett to the File, dated March 14, 2011.

Final Results of Review

We determine that the following weighted-average margins exist:

Manufacturer/exporter | Percent margin
HYSCO | ᵃ 0.20
The POSCO Group | ᵃ 9.05
Union | 2.27
Dongbu | 3.89
Review-Specific Average Rate Applicable to the Following Companies²: LG Chem, Haewon, Hausys and Dongkuk | 3.0%
ᵃ (de minimis).

Assessment

The Department will determine, and U.S. Customs and Border Protection (CBP) shall assess, antidumping duties on all appropriate entries, pursuant to 19 CFR 351.212(b). The Department calculated importer-specific duty assessment rates on the basis of the ratio of the total antidumping duties calculated for the examined sales to the total entered value of the examined sales for that importer. Where the assessment rate is above de minimis, we will instruct CBP to assess duties on all entries of subject merchandise by that importer. The Department intends to issue appropriate assessment instructions directly to CBP 15 days after publication of these final results of review.

² This rate is a weight-average percentage margin (based on the two reviewed companies with an affirmative dumping margin) for the period August 1, 2008, through July 31, 2009, and does not include zero and de minimis rates or any rates based solely upon facts available.

The Department clarified its “automatic assessment” regulation on May 6, 2003 (68 FR 23954). This clarification applies to POR entries of subject merchandise produced by companies examined in this review (i.e., companies for which a dumping margin was calculated) where the companies did not know that their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

The following deposit requirements will be effective upon publication of the final results of this administrative review for all shipments of CORE from Korea entered, or withdrawn from warehouse, for consumption on or after the publication date of these final results, as provided by section 751(a) of the Tariff Act of 1930, as amended (the Act): (1) For companies covered by this review, the cash deposit rate will be the rate listed above; (2) for previously reviewed or investigated companies other than those covered by this review, the cash deposit rate will be the company-specific rate established for the most recent period; (3) if the exporter is not a firm covered in this review, a prior review, or the less-than-fair-value investigation, but the producer is, the cash deposit rate will be the rate established for the most recent period for the manufacturer of the subject merchandise; and (4) if neither the exporter nor the producer is a firm covered in this review, a prior review, or the investigation, the cash deposit rate will be 17.70 percent, the all-others rate established in the less-than-fair-value investigation. These deposit requirements shall remain in effect until further notice.

Reimbursement of Duties

This notice also serves as a final reminder to importers of their responsibility under 19 CFR 351.402(f) to file a certificate regarding the reimbursement of antidumping and/or countervailing duties prior to liquidation of the relevant entries during this review period. Failure to comply with this requirement could result in the presumption that reimbursement of antidumping and/or countervailing duties occurred and the subsequent increase in antidumping duties by the amount of antidumping and/or countervailing duties reimbursed.

Administrative Protective Order

This notice also is the only reminder to parties subject to administrative protective order (APO) of their responsibility concerning the return or destruction of proprietary information disclosed under APO in accordance with 19 CFR 351.305. Timely written notification of the return/destruction of APO materials or conversion to judicial protective order is hereby requested. Failure to comply with the regulations and the terms of an APO is a sanctionable violation.

We are issuing and publishing these results and notice in accordance with sections 751(a)(1) and 777(i)(1) of the Act.

Dated: March 14, 2011.
Kim Glas,
Acting Deputy Assistant Secretary for Import Administration.

APPENDIX I

List of Comments in the Accompanying Issues and Decision Memorandum:

A. General Issues

Comment 1: Treatment of “Negative Dumping Margins” (Zeroing)

Comment 2: Treatment of Laminated Products in Model Match

B. Company-Specific Issues

Hyundai HYSCO

Comment 3: Liquidation Instructions

Comment 4: Cost Adjustments Made by HYSCO

Comment 5: Whether the Department Should Treat All Products that Passed Through the Continuous Galvanizing Line as Temper-Rolled

The POSCO Group

Comment 6: POSCO's Average Warranty Expense for U.S. Price

Comment 7: The Department's Treatment of Service Fees in its Home Market Indirect Selling Expenses

Comment 8: The POSCO Group's Home Market Warranty Expenses for Non-Prime Merchandise with Certain Gross Unit Prices

Comment 9: The Allocation of POSCO's Home Market Warranty Expense Over All Home Market Sales

Comment 10: The Treatment of POSAM's Other Expenses in its U.S. Indirect Selling Expenses

Comment 11: The Treatment of the POSCO Group's Actual Interest Expense in INDIRSU

Comment 12: Beginning Inventory Variances for Semi-finished Goods

Comment 13: Reported Costs

Comment 14: General and Administrative Expense Ratio Calculation

Union

Comment 15: Cost-Recovery Test when Using a Quarterly-Cost Methodology

Comment 16: Scrap Offset

Comment 17: General and Administrative Expenses

Comment 18: Cost of Goods Sold (COGS) Denominator

Comment 19: Financial Expenses

Dongbu

Comment 20: Calculation of Home Market-Short Term Interest Rate

Comment 21: Reported U.S. Customs Duty

[FR Doc. 2011-6566 Filed 3-18-11; 8:45 am]

BILLING CODE 3510-DS-P